NUCLEAR WASTE TECHNICAL REVIEW BOARD

Board Meeting: February 16, 2011—Las Vegas, NV, the U.S. Nuclear Waste Technical Review Board Will Meet To Discuss DOE Activities Related to Managing Spent Nuclear Fuel and High-Level Radioactive Waste

Pursuant to its authority under section 5051 of Public Law 100-203, Nuclear Waste Policy Amendments Act of 1987, the U.S. Nuclear Waste Technical Review Board will meet in Las Vegas, Nevada, on February 16, 2011, to continue its exploration of technical aspects of the U.S. Department of Energy's (DOE) activities related to managing and disposing of spent nuclear fuel and high-level radioactive waste. The Board will consider technical lessons that can be gained from DOE efforts to develop a permanent repository for spent fuel and high-level radioactive waste over the last two decades. The Board also will review current DOE activities related to implementation of the Nuclear Waste Policy Act.

The Board meeting will be held at the Marriott Suites Convention Center; 325 Convention Center Drive, Las Vegas, Nevada 89109; (Tel) 702-650-2000; (Fax) 702-650-9466. A block of rooms has been reserved at the hotel for meeting attendees. To ensure receiving the meeting rate, reservations must be made by January 21, 2011. To make reservations, go to http://www.marriott.com/hotels/travel/lasst-las-vegas-marriott/?toDate=2/18/11&groupCode=nucnuca&fromDate=2/14/11&app=resvlink or call 800-244-3364 or 702-650-2000.

A detailed agenda will be available on the Board's Web site at http://www.nwtrb.gov approximately one week before the meeting. The agenda also may be obtained by telephone request at that time. The meeting will be open to the public, and opportunities for public comment will be provided.

The meeting will begin at 8:30 a.m. in the Lake Mead/Red Rock Salon on the 17th floor of the Marriot Suites Convention Center. Time has been set aside at the end of the day for public comments. Those wanting to speak are encouraged to sign the “Public Comment Register” at the check-in table. A time limit may have to be set on individual remarks, but written comments of any length may be submitted for the record.

Transcripts of the meeting will be available on the Board's Web site, by e-mail, on computer disk, and on library-loan in paper form from Davonya Barnes of the Board's staff no later than March 21, 2011.

The Board was established as an independent federal agency to provide objective expert advice to Congress and the Secretary of Energy on technical issues and to review the technical validity of DOE activities related to implementing the Nuclear Waste Policy Act. Board members are experts in their fields and are appointed to the Board by the President from a list of candidates submitted by the National Academy of Sciences. The Board is required to report to Congress and the Secretary no fewer than two times each year. Board reports, correspondence, congressional testimony, and meeting transcripts and materials are posted on the Board's Web site: http://www.nwtrb.gov.

For information on the meeting agenda, contact Karyn Severson. For information on lodging or logistics, contact Linda Coultry; 2300 Clarendon Boulevard, Suite 1300; Arlington, VA 22201-3367; (tel) 703-235-4473; (fax) 703-235-4495.

Dated: January 12, 2011.
Daniel S. Metlay,
Acting Executive Director, U.S. Nuclear Waste Technical Review Board.

[FR Doc. 2011-1088 Filed 1-19-11; 8:45 am]

BILLING CODE 6820-AM-P